DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing their United States citizenship (within the meaning of section 877(a) or 877A) with respect to whom the Secretary received information during the quarter ending June 30, 2011.

Last name | First name | Middle name/initials
ABDALL | HUSSEIN |
AGGARWAL | ROHIT |
AIGNER | HEIDI | MARIE
ALMEER | ABDULLATIF | A
AL-WAGDANI | MOHAMMAD | DAKHEELALLA
AMOYAL | LESLIE | CHABOT
AQUILINA | ISABELLA |
ASHUTE | FREDERICK | ANTHONY
AUDIA | ARTHUR | J
AUERBACH | JOSHUA |
AZECHI | KIMIKO |
AZECHI | SHUHEI |
BAILEY | DONALD | ATHOLL
BALTENSPERGER | MARC | MICHAEL
BANDINI | JEAN-CHRISTOPHE | DENIS
BARBER | BRYAN |
BARBER | SHARON |
BASU | MONAMI |
BAUTZ | FRIEDLINDE | ANNA MARIA
BEAZLEY | JEFFREY | C
BEHN | CHRISTOPH |
BEKTAS | SERKAN |
BENNETT | CYNTHIA |
BERLEPSCH-VALENDAS | OLIVER | CHRISTIAN
BERLIAND | MIRNDA | LOUISE
BERNIER | JOCELYNE |
BERTHOLD | DOROTHY | ISABELLE
BESSMERT | DANIEL |
BIASUCCI | JOHN | W
BJERTNES | MARK | ERIK
BLACK | CRAIG | GRANT
BODMER | PATRIC | DIEGO
BOEHLEN | ANDRE | F
BOEHLEN | MYRIAM | C
BOISSIER | CLAUDIA | ANN
BOISVERT | ANDRE |
BONGIORNO | MICHELLE | PIETRO FILIPPO
BONGIORNO | NICOLO |
BORG-WIKLUND | EVA |
BOVET | CLAUDE | HENRI
BRACHET | ALEXIS |
BRADLEY, JR | RUSS | VAN VIECK
BRATSBERG | STIAN | MIKAEL
BREUER | PETER |
BRIONES | BRENDA | C
BRODTBECK | ANDREAS | DANIEL
BRODTBECK | PETER | LAWRENCE
BROST | HANNAH | HEERA
BROWN | DAVID | A
BRUNNSCHWEILER | CHRISTA | NOEL
BRUTON | KRISTIN | MARIE
BUCKINGHAM | RICHARD | G
BURDEN | BRIAN |
BURDEN | DEBORAH | E
CADY ROUSTAND DE NAVACELLE | GILLES | HENRY
CAMPBELL | GARY | E
CAMPOS | MONICA |
CARBONE | CHRISTOPHER | ALLEN
CAREY | ROBIN | JOY
CARNEY | MATTHEW | ISAAC
CATTAUI | MICHAEL |
CHAMMAS | RICHARD | E
CHAN | LEE-MING |
CHAN | STEFFI | KANG TING
CHAN | STEVEN | CHEE-JIN
CHAN | VINCE | CHI YAN
CHANG | CATHERINE | HSIAO
CHANTAL OF GREECE | MARIE |
CHAO | KO | CHENG
CHAPPELL | MARY | ELLEN
CHARLES | MARIE |
CHARTRAND | MARC | LEO
CHEN | ELIZABETH |
CHEN | IRENE |
CHEUNG | FUNG | Y
CHEUNG | NERISSA | SUI MAN
CHIEN | PETER |
CHIU | HSIU CHIN C | CHIN C
CHIU | WEN-TA |
CHOW | KYAN | MERVYN
CHOW | SELWYN | S
CHRISTESON | TONYA |
CHU | FRANKLIN | DEAN YUAN
CHU | SHAO-HUA |
COBURN | RICHARD | GAGE
COLLIER | NICHOLAS | JOHN
COLLIER | NICHOLAS | JOHAN
COMMUNAL | HENRI |
CORNELY | URSULA |
COX | GABRIEL |
CRESSMAN | SUSAN | ELIZABETH
CRITTENDEN | FRANCES | JANE
CRUIKSHANK | SUSAN | SHATTO
DAHAN | ELISABETH | DE PATER
DAHAN | RENEE |
DAIGLE | A | YVONNE
DAUM | PATRICIA |
DAVIDSON | JUTTA |
DE LA HUNTY | ANITA | LOUISE
de MESTRAL | DARCY | AYMON
DE MUSKA | FREDERIQUE |
DE MUSKA | JEAN-PHILIPPE |
DE MUSKA | MICHEL |
DE PAREDES | CARLOS | GARCIA
DE SOCORRO-VALLEJO | ANGELA | MARIE
DELEEDE | ANTHONY | G
DESAI | ANAND | R
DESPERT | ALAIN | FERNAND
DIEMER | INGRID | H
DINGER JR | CARL | GENE
DIPUMA | FRANK | J
DISKO | STEFAN | C
DOMINGO | TATIANA | SANTO
DONG | JING |
DONOHOE | JAMES | JPSEPH
DONOHUE | DAVID | LEE
DONOHUE | MAGDALENA |
DURISCH | THOMAS | BASTIAN
EICHENBERGER | ANDRE | CHRISTIAN
EISENBEISS | LIESL | MARIA PATRICIA
ENGELMAN | MATTHEW | JOEL
ERNANNY | JULIA | SOUZADE PAIVA
EWERT | KENNETH | J
EWERT | MONICA | R
FAIRBURN | KARIN | U
FAUDE | SCOTT | RUDI SVENN
FELLRATH | GEORGE | MICHAEL
FERMEAUX | VALERIE | JEANNE
FIGUERES | MUNI |
FILOTTI | MARIE | D
FINKBEINER | HORST | E
FLAMANT | NICOLAS | C
FOLKOFF | JACOB | BENJAMIN
FONG | MAGGIE | YUEN CHI
FOOT | GISELA |
FOOT | GRAHAM | R
FRANGI | ANWAR | T
FRASER | GRANT | ERNEST
FREEMAN | JOHN | KENTON
FRESI | BRADLEY | D
FU | EM-ON |
FU | KA | CHUN
FU | SAI | PIU
FUJIKAWA | KIYOMI |
FUJIKAWA | SADAYUKI |
FUNG | EUGENE | YUI-HANG
FUSHMAN | YAEL |
GALLOTTI | DANIALA |
GARCIA | MARIO |
GELSI | MARIO |
GEORGE | JEFFREY | JULIAN
GERSBACH | MAREK | ARNAUD
GERTH | DALE | BERNARD
GILMARTIN | DENISE | NG
GITLIN | DONALD | ISAAC
GOBETS | BAMIYAN | A
GOLDLUST | ALAN |
GOLLIN | SUSANNE | NINA
GOUGH | GEOFFREY | R
GRAHAM | BARRY | M
GRAHAM | KAY |
GRANDY | JOANNE | COLLINS
GROSSMAN | JONATHON | SANDOR
GUGA | RICHARD |
GUNJI | HIROMI |
GUPTA | RAHUL |
GUPTA | SUJATA |
GUTTA | SRINIVAS | V
HABERMANN | MONICA | ISABEL
HAFFNER | MAJA | HELEN
HALL | ANTHONY | JOHN
HALL | NICHOLAS | J
HAMBLIN | DAVID | STANLEY
HAMBLIN | PAULINE |
HAMILTON | REID | HEURTLEY
HANIBAL | AMAR | T
HARTE | NEIL | D
HARTWICH-KNIGHT | KAREN |
HASKELL | PRESTON | HAMPTON
HASTRY | JOHN | JOSEPH PATRICK
HEDDINGER | GERALD | JOHN
HEIDLBERG | MICHELLE | HEDWIG
HEINEN | FRANZ | JOSEF
HELM-EISELT | RENATE |
HEMSWORTH | COLIN |
HEMSWORTH | FIONA |
HENTSCH | ALEXIA | VELLOSO FREIRE
HENTSCH | FLAVIA | VELLOSO FREIRE
HERRERA | GUSTAVO | A
HERZ | STEPHEN | OLIVER
HEURTEMATTE | ELIZABETH | LAUREN
HEURTEMATTE | VICTORIA | ALEXANDRA
HIGASHIYAMA | ATSUSHI |
HIGASHIYAMA | HISASHI |
HIGASHIYAMA | YURI |
HILE | ROBERT | IRWIN
HNUG | LING | YU
HOFMAN | EUGENE | R
HOFMAN | EUGENE | JOHN
HONG | TAYLER | JIHYE
HOU | KAI | YUP
HOWLETT | LYNN |
HOYES | STEPHEN |
HSU | CHIN | CHI
HSU | MING | YU
HSU | TSUI | CHING
HUANG | KUO-WEI |
HUI | KAM | KWEI
HUTCHINSON | MARY | JEANNE
HWANG | CHOHEE |
IANEV | CHRISTO | SLAVTCHEV
ILLINGWORTH | STEPHEN | ALAN
INGRAM | JOAN | BAILEY
INGWERSEN | KIMBERLY | ANNE
IP | SAI | YIN
IRANZO | MANUEL |
ITO | NORIKAZU |
IUE | MOTOHARU |
IVSAN | INGA |
JIMENEZ-LARA | ZENAIDO |
JONES, JR | ROBERT | FRANKLIN
JON-PAUL | SEAN | PATRICK
KALGRAF | OLAV | LURAAS
KAUSAR | NASIR | ALESSANDRO
KAWAJIRI | MASARU |
KAWAJIRI | MOTOKO |
KAWAKAMI | SHUHEI |
KAWAKAMI | YURIE |
KELLER | SUSAN | E
KENNEDY | NEIL |
KHOURY | ISSAM | N
KIM | IN | SOOK
KINGSBURY | KARLA | JOHANNA
KIRKMAN | LYNDA | DOROTHY
KITAJIMA | TOSHIKO |
KLEINER | ANDREA | BARBARA
KLEINER | MIRIAM | TAMARA
KMIEC | ANDREW | FRANK
KNYNENBURG | DONALD | A
KOEHLER | KLAUS |
KOEHLER | MARLIES |
KORTSCHAK | GERMAN | FELIX
KRAETZ | MELVIS | MARIA
KREPP | KERSTI | MAY
KRIENKE | BJORN |
KUSTER | PHILIPPE | ALLAN
KWAN | MEI | L
LAI | CHRISTINA | FOO SHEUNG MA
LAI | ZHUOYUAN |
LAM | ALFRED | NGO-HNG
LAMARRE | ROBERT |
LAMBERT | FABIEN | THOMAS
LAMPRECHT | LINDA |
LANCKSWEERT | THIBAULT | PHILIPPE
LAU | JENY |
LE CALVEZ | DIDIER |
LEDVINA | MATTHEW | CONWAY
LEE | CHUTIMA |
LEE | CYNTHIA | ANNE HONG-YEE
LEE | JASON | HAWKIN
LEE-HSU | MONA | SHUET MI
LEHMAN | GAIL | A
LEONG | JIA | JUN
LEUNG | ALEX |
LEUNG | ANDRE | WAI KIM
LEUNG | DANSON |
LEUNG | PUI | YIN
LEUNG | TAT | YAN
LEVETT | GINA | ANNA MARIA
LI | GUOJI |
LI | MICHAEL | MAN TOA
LIANG | GUANG | YU
LIHOU | ELISABETH | ANN
LIM | YOUN-KYUNG |
LIN | SAMUEL | PERNG-LIANG
LINDO | GLADYS | LORENA
LITVAK | IGOR | M
LIU | CHARLIE | CHI-YUNG
LO | CHUNG KEE | THOMAS
LOCK | ANDREW | J
LOCK | SARAH | H
LOH | LEAN | K
LOSADA | RODRIGO |
LOW | BLIGH | KEE WAI
LOWTHER | CAMILLA | ANN
LU | CHIA | AO WILLIAM
LUI | EILEEN | WAI LING
LUI | PETER | NING SHUN
LUKENDA | MICHAEL |
LUMMIS | JOHN | MAXWELL
LUND | TAMARA | DEIDRE
MA | CHUN | KEUNG
MA | ERIC |
MALICK | FRANK | N
MALLET | LORELEE | SUSAN
MAN | AMIR | ABRAHAM
MANSBRIDGE | ANNE |
MARKS | JANE | KATHRYN
MARRIN | JANE | CECILIA MINET
MARTI | MANUEL |
MARWAH | PHYLLIS | ANN
MASON | REVECCA | JANE
MASUDA | HISAKO |
MASUDA | NOBORU |
MATSUMOTO | TAKASHI |
MATSUYAMA | SHIGEO |
MATTHEW PATON | CHARLES | ROBERT
MAUPIN | DARREN | JOHN
MC CALLUM | GARY | J
MC VEIGH | JENNIFER | BRANSFORD
MCGEE | KEVIN |
MCPHERSON | PEGGY | KIRK
MEEK | FRANK | MARTIN
MEI | HSIAO-TING |
MERSZEI | GEOFFERY | E
MILEY | AGNES |
MILLER-GETTY | PIA | CHRISTINA
MISAWA | NORIKO |
MITCHELL | MATILDA |
MOONEY | RANDY | JEAN
MORIN | GERALD |
MOSS | PAMELA | JANE
MOTA | SAMUEL |
MUI | MALCOLM | HIN
MURBACH | ALEXANDER | MARTIN
MURPHY | DARLENE | WILMA
MURTHY | SREENATH | N
NAHUM | CLAUDE |
NEUMAN | YVONNE | T. H.
NG | KAR | FAI JEFFREY
NG | VICTORIA | H
NICHOLL | COLIN | RICHARD
NIEDERHAEUSERN-WHITEHEAD | MARLENE | VON
NIELD | LOUISE | ALISON
NIEM | JOHN | WIN FONG
NO | JUNG | SOON
NOMURA | TAKEHARU |
NOMURA | YOSHIE |
NOMURA | YUKIKO |
NOON | CHRISTOPHER |
NOON | MARY |
NOYES | KEITH | S
OHASHI | YUKA |
OKABE | TOMOYUKI |
OKAMOTO | MICHIKO |
OKAMOTO | NORIAKI |
OLENICK | NICHOLAS |
ONIKI | MOTOHIRO |
ORII | KEIKO |
ORII | MASAHARU |
OVEREEM | GABRIELLA |
OVEREEM | HELENA | C
OVEREEM | PAULUS | C
OVEREEM | TIM |
OWENS | NANCY | PATRICIA
OZAYDIN | MELIH |
PAN | GUO | PING
PAREKH | AJAY |
PARK | JI | SOOK
PATRY | ROBERT | JOSEPH ALLEN
PAVLOWSKI | DANNY |
PEACOCK | ESTHER | CHRISTINE LEHAR
PECOT III | CHARLES | MATTHEW
PENMAN | JOHN | ROLAND
PERONE | FRANCO |
PERSSON | ALICE |
PERSSON | CHRISTER |
PETERSEN | JORGEN |
PETERSEN | TOVE |
PETTIGREW | PATRICIA | A
PFISTER | ISAAK | KLEIN
PHOENIX | CARSON | I
PHOENIX | MARGOT | A
PIPES | JON | ERIC
PLOUGH | ANN | CATHERINE
PORTAS | SCOTT | C
PORTAS | SHELLEY | A
PRADO | ANDREA | AMARAL DE ALMEIDA
PRATT | ALAN | JOSEPH
PRATT | LORRAINE |
PROBST | MARTIN | RAYMOND
QUINN | ANNA | M
RAWE | ALEXANDRA | SOPHIA MILLINGTON
REIDENBACH | NICOLE |
REINER | MARK |
REINHART | SCOTT | PAUL
RIES | RAY | VOLKER
RITCHEY | CANDICE |
RITTER | NICOLE | A
RITZENTHALER | KRISTIN |
RIZZI | FABIO |
ROBB | IAN |
ROSENZWEIG | JEFFREY | ALLAN
ROSSMAN | PATRICIA | L
RUBINOWICS | CLAUDE | J
RUEESCH | LAURA | KARIN
RYAN | JEFFREY | PRESTON
RYAN | TIMOTHY | PATRICK
SACCANI | RICO | ROBERT
SACCANI | SIGRUN |
SAMMARTINO | DANIEL | R
SCHMID | JOEL |
SCHOENBERG | MARCHIA | GWEN
SCHROEDER | EVELYN | M
SCHUBER | GREGORY |
SCHUBER | KRISTELL |
SCHULTE | PAUL | LOUIS PETER
SCHULZ | FRITZ | ALEXANDER
SCIMONE RIZZI | MARIA | G
SEKULA | FRANK | JOSEPH
SELLERS | MARIELIS |
SEOW | MICHAEL | FU-SHEN
SETO | DAVID | DAWEII
SHAVER | ALLAN |
SHAVER | SHIRLEY |
SHAW | ALEXANDRA |
SHAW | RAY-YANG |
SHI | XIAOBING |
SHIZUKA | KOJIRO |
SIEGRIST | HERTA | A
SILUCH | SUSAN |
SIMONS | AUGUST | EVARISTO
SINGAPURI | JOYDEEP |
SINGH | INDER |
SINHA | BAPPADITYA |
SINO | LEE | CHEI
SIRLUCK | KATHERINE | ANN
SIU | MAN-KAM |
SPENCER | JULIE |
SPENCER | SIMON |
SPITZNAS | ELISABETH | MARIE BEATRICE
STACEY | THOMAS | EDWARD
STEEL | SHEILA | ALWYN
STRUBEL | JOSEPH | GEORGE
SUDO | HIDEO |
SUGIYAMA | EMIKO |
SUGIYAMA | TAKUYA |
SUGIYAMA | YOSHIAKI |
SUM | CHI-EN | GRACE
SUNG SIU | GLADYS | CHI-WHA
SUTPHIN | TRACY | CHRISTINE
SUWA | NORIKO |
SYLVESTER | MIO | PAUL
SZARVAS | SUSANNE | A
TADAHARU | UCHIDA |
TAKEUCHI | EIKO |
TAKEUCHI | YOSHIFUMI |
TAKI | KENTARO |
TAKIGAWA | MASAMICHI |
TAM | HERBERT |
TAMESUE | KEIKO |
TAMESUE | NOBUKI |
TANG | SUE | MAR
TANG | XIN-ZI |
TAYLOR | BRIAN |
TAYLOR | SALLY | MARGARET
TELSON | NATASHA | HANN
THE | SU | MEI
THOMPSON | MARION | ADLER
THOMPSON | SEAN | W
THOMSON | WILLIAM | REID
TIESINGA | PAUL | H
TIMASHEV | RATMIR | V
TORDION | DOMINQUE | M
TORELLI | DIEGO | F
TOSO | KRISTIN |
TRACEY | JACQUELINE | WING YING
TSEUNG | DANIEL | KAR-KEUNG
TSUI | SIU-MI | MARIA
TUFEANU | GHEORGHE |
TYRRELL | THOMAS | R
VAN DEN BOL | EMILE |
VAN DER WESTHUIZEN | AMANDA |
VAN DER WESTHUIZEN | DAVID |
VAN HARREN | MARIUS | WILLEM
WAGNER-LAGIER | CAROL | A
WALLACE | ELLEN | GENEVIEVE
WALLENTIN | WING-YEN |
WALTER | DOUGLAS | ALLEN
WANG | QIANG |
WANG | WEIPING |
WANG | YEUNG | BILLY
WEISS | OSKAR | ALBERT
WEN | XIAOQING |
WETRHUS | ALLAN |
WHITE | ANITA |
WHITE | WILLARD | W
WHITEHEAD | FRANCES |
WHITTAKER | CATHERINE | ANN
WIDMANN | JASMIN | SONJA
WIKLUND | ANDERS | P
WILSON | MURRAY | J
WOLFER | ANDREA | VERENA
WONG | CONNIE | Y C
WONG | KIN | YIN
WONG | YUEN | KENG
WONG, JR | WILLIAM |
WOO | DARRIN |
WOO | NANCY | CHU
WOO AKA WING FAI NG | JAMES | WING FAI
WOOD | ALLEN | MICHAEL
WOOD | JOYCE | MARY
WORCESTER | ROBERT | MILTON
WU | ENOCH | YI-NONG
WU | FRANCES |
YAO | ANDREW | E
YEUNG | CHARMAGNE |
YEUNG | JUDY | MANH Y.
YEUNG | NORMAN LEE | YUEN
YNGVASON | HAFTHOR |
YOSHIIE | MAMIKO |
YOSHINO | TEIJIRO |
YOSHITOMI | MARI |
YU | GREGORY | HOCK-KEN
ZAGE III | GEORGE | RAYMOND
ZEIN | HYAM |
ZEIN | SOLAIMAN | M
ZHANG | TONG |
ZVERINTSEV | ALEXANDER |

Dated: July 20, 2011.
Ann Gaudelli,
Manager Team 103, Examinations Operations—Philadelphia Compliance Services.

[FR Doc. 2011-19677 Filed 8-2-11; 8:45 am]

BILLING CODE 4830-01-P